DEPARTMENT OF COMMERCE

United States Patent and Trademark Office

Submission for OMB Review; Comment Request; “Public Key Infrastructure (PKI) Certificate Action Form”

The United States Patent and Trademark Office (USPTO) will submit to the Office of Management and Budget (OMB) for clearance the following proposals for collection of information under the provisions of the Paperwork Reduction Act (44 U.S.C. Chapter 35).

Agency: United States Patent and Trademark Office, Commerce.

Title: Public Key Infrastructure (PKI) Certificate Action Form.

OMB Control Number: 0651-0045.

Form Number(s):

• PTO-2042

Type of Request: Regular.

Number of Respondents: 3,825 responses per year.

Average Hours per Response: The USPTO estimates that it will take the public approximately 30 minutes (0.50 hours) to read the instructions and subscriber agreement, gather the necessary information, prepare the Certificate Action Form, and submit the completed request.

Needs and Uses:

This information collection covers the Certificate Action Form (PTO-2042), which is used by the public to request a new digital certificate, revoke a current certificate, or recover a lost or corrupted certificate. Customers may also change the name listed on the certificate or associate the certificate with one or more Customer Numbers. A Customer Number allows an applicant to associate all correspondence and USPTO actions regarding multiple patent applications to a single address and name. The Certificate Action Form must include a notarized signature in order to verify the identity of the application. The Certificate Action Form has an accompanying subscriber agreement to ensure that customers understand their obligations regarding the use of the digital certificates and cryptographic software. When generating a new certificate, customers also register to receive a set of seven codes that will enable customers to recover a lost certificate online without having to contact USPTO support staff.

Frequency: On occasion.

Respondent's Obligation: Required to Obtain or Retain Benefits.

OMB Desk Officer: Nicholas A. Fraser, email: Nicholas_A._Fraser@omb.eop.gov. Once submitted, this request will be publicly available in electronic format through www.reginfo.gov. Follow the instructions to view Department of Commerce collections currently under review by OMB.

Further information can be obtained by:

• Email: InformationCollection@uspto.gov. Include “0651-0045 copy request” in the subject line of the message.

• Mail: Marcie Lovett, Records and Information Governance Division Director, Office of the Chief Technology Officer, United States Patent and Trademark Office, P.O. Box 1450, Alexandria, VA 22313-1450.

Written comments and recommendations for the proposed information collection should be sent on or before May 17, 2018 to Nicholas A. Fraser, OMB Desk Officer, via email to Nicholas_A._Fraser@omb.eop.gov or by fax to 202-395-5197, marked to the attention of Nicholas A. Fraser.

Marcie Lovett,
Records and Information Governance Division Director, Office of the Chief Technology Officer, United States Patent and Trademark Office.

[FR Doc. 2018-08020 Filed 4-16-18; 8:45 am]

BILLING CODE 3510-16-P